DEPARTMENT OF DEFENSE

Department of the Army; Corps of Engineers

Notice of Public Comment Period for the Missouri River Recovery Implementation Committee's Proposed Charter Amendments, Missouri River, United States

AGENCY: Department of the Army, U.S. Army Corps of Engineers, DoD.

ACTION: Notice of public comment period.

SUMMARY: The Missouri River Recovery Implementation Committee, referred to as MRRIC or the Committee, is seeking comments to its proposed Charter amendments on or before April 19, 2014. MRRIC has reached tentative consensus on three (3) proposed amendments to its Charter, originally approved on July 1, 2008. Prior to seeking final consensus and recommending the amendments to the Secretary for final adoption, the Corps of Engineers, on behalf of the Committee, seeks public comments on the following tentative recommendations:

(1) Charter amendment 1: Section V, “Membership and Representation of Interests,” should be amended to specifically add the “Osage Nation” to the list of subsection (d) Tribes, as eligible for membership in the Committee.

Background: On August 9, 2013 the MRRIC Chair received a letter from Principal Chief Red Eagle of the Osage Nation requesting the Osage Nation become a member of MRRIC. MRRIC discussed this request and reached tentative consensus in November 2013 on a recommendation to revise the MRRIC Charter to include the Osage Nation as a member of the Committee. The Osage Nation is a federally-recognized Tribe with land near the basin and historical ties to the Missouri River.

(2) Charter amendment 2: Section V, “Membership and Representation of Interests,” subsection (e)(i) should be amended to indicate that there will be a maximum of twenty-nine (29) stakeholder members (rather than 28).

Background: The Committee discussed the original intention to invite an equal number of stakeholder members and Tribal members to serve on the Committee. To maintain this balance when adding the Osage Nation to MRRIC, the Committee reached tentative consensus in November 2013 on a recommendation to increase the number of stakeholder members from 28 to 29.

(3) Charter amendment 3: Section VII, “Roles, Responsibilities and Leadership” subsection (a)(iv) should be amended, striking the phrase “for no more than three (3) additional terms of one (1) year each” such that the amended language reads as:

iv. The Chair and Vice Chair will serve or be removed with the consensus of the Committee. The term of office of the Chair and Vice Chair will be one (1) year, with the opportunity for reappointment. Should a Committee member believe the Chair and/or Vice Chair are not performing in a fair and balanced manner, it is the responsibility of the member to raise his/her concerns to the Chair or to the full Committee for consideration.

Background: The Committee discussed the need for term limits on leadership and concluded that the ability to remove the Chair and Vice Chair with consensus of MRRIC is sufficient. The Committee also concluded that it was important to have a Chair with knowledge and familiarity of the Committee and its operations and consequently it may be difficult to find many individuals who best match the needs of MRRIC. The Chair's performance will continue to be evaluated by MRRIC annually. The Committee reached tentative consensus on this recommended amendment in February 2014.

DATES: All comments to this public notice should be submitted on or before April 19, 2014.

ADDRESSES: Submit comments to U.S. Army Corps of Engineers, Attn: Mary Roth, MRRIC Project Manager, 1616 Capitol Ave. Ste. 900, Omaha, NE 68102.

FOR FURTHER INFORMATION CONTACT: Additional information about this public notice may be obtained by contacting Mary Roth, MRRIC Project Manager, (402) 995-2919 or via email at Info@MRRIC.org.

SUPPLEMENTARY INFORMATION: The Secretary of the Army (Secretary) established the Missouri River Recovery Implementation Committee in 2008, as authorized by Section 5018 of the 2007 Water Resources Development Act (WRDA), to make recommendations and provide guidance on a study of the Missouri River and its tributaries and on the existing Missouri River recovery and mitigation plan. Note: Work on the referenced Missouri River and tributaries study is currently suspended in accordance with the Consolidated Appropriations Act of 2014 (Sect. 114) signed by the President January 3, 2014. The Committee provides a collaborative forum for the basin to come together and develop a shared vision and comprehensive plan for Missouri River recovery. The Committee helps guide the prioritization, implementation, monitoring, evaluation and adaption of recovery actions. The Committee includes broad stakeholder representation to ensure a comprehensive approach to Missouri River recovery implementation while providing for congressionally-authorized Missouri River project purposes and to ensure that public values are incorporated into the study and the recovery and mitigation plans.

Comments: This notice is provided to outline details of the above-described activity so this Committee may consider all pertinent public comments prior to final consensus and recommendation of the Charter amendments to the Secretary for final adoption. Any interested party is invited to submit written comments on any or all of the contemplated amendments on or before the public notice expiration date, April 19, 2014. Comments about the proposed amendments, both favorable and unfavorable, will be accepted and made part of the record and will receive consideration by the Committee in determining whether to amend its Charter. Comments should be provided to the individual listed in this public notice under the FOR FURTHER INFORMATION CONTACT section.

Reference: Missouri River Recovery Implementation Committee Charter, July 1, 2008; http://moriverrecovery.usace.army.mil/mrrp/mrrp_pub_dev.download_documentation?p_file=425.

For more information about the Missouri River Recovery Implementation Committee, visit: www.MRRIC.org.

Brenda S. Bowen,
Army Federal Register Liaison Officer.

[FR Doc. 2014-06175 Filed 3-20-14; 8:45 am]

BILLING CODE 3720-58-P